DEPARTMENT OF AGRICULTURE

Submission for OMB Review; Comment Request

September 20, 2019.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 25, 2019 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: CCC's Facility Guarantee Program (FGP).

OMB Control Number: 0551-0032.

Summary of Collection: Under the authority of 7 CFR part 1493, subpart C, the Facility Guarantee Program (FGP) offers credit guarantees to facilitate the financing of U.S. manufactured goods and services to improve or establish agriculture infrastructure in emerging markets. Sales under FGP are considered normal commercial sales. The Foreign Agricultural Service (FAS) will collect information in a letter format via mail or facsimile.

Need and Use of the Information: FAS will collect information to determine eligibility for FGP benefits and to ensure CCC that all participants have a business office in the U.S. and are not debarred or suspended from participating in government programs. FAS will use the application to determine a project's eligibility for FGP coverage and to determine the impact on U.S. agricultural trade. The information requested will provide CCC with adequate information to meet statutory requirements. If the information were not collected CCC would be unable to determine if export sales under the FGP would be eligible for coverage or, if coverage conformed to program requirements.

Description of Respondents: Business or other for-profit.

Number of Respondents: 18.

Frequency of Responses: Recordkeeping; Reporting; On occasion.

Total Burden Hours: 361.

Ruth Brown,
Departmental Information Collection Clearance Officer.

[FR Doc. 2019-20857 Filed 9-24-19; 8:45 am]

BILLING CODE 3410-10-P